DEPARTMENT OF COMMERCE

United States Patent and Trademark Office

[Docket No. PTO-T-2012-0031]

Extension of Comment Period for Request for Comments Regarding Amending the First Filing Deadline for Affidavits or Declarations of Use or Excusable Nonuse

AGENCY: United States Patent and Trademark Office, Commerce.

ACTION: Notice of extension of public comment period.

SUMMARY: The United States Patent and Trademark Office (“USPTO” or “Office”) is extending until November 5, 2012, the period for public comment regarding a potential legislative change to amend the first filing deadline for Affidavits or Declarations of Use or Excusable Nonuse under Sections 8 and 71 of the Trademark Act. The change would require Congress to amend the Trademark Act, and the USPTO is interested in receiving public input on whether and why such an amendment is or is not favored.

DATES: Written comments must be received on or before November 5, 2012.

ADDRESSES: The USPTO prefers that comments be submitted via electronic mail message to TMFRNotices@uspto.gov. Written comments may also be submitted by mail to Commissioner for Trademarks, P.O. Box 1451, Alexandria, VA 22313-1451, attention Cynthia C. Lynch; by hand delivery to the Trademark Assistance Center, Concourse Level, James Madison Building—East Wing, 600 Dulany Street, Alexandria, Virginia, attention Cynthia C. Lynch; or by electronic mail message via the Federal eRulemaking Portal. See the Federal eRulemaking Portal Web site (http://www.regulations.gov) for additional instructions on providing comments via the Federal eRulemaking Portal. All comments submitted directly to the Office or provided on the Federal eRulemaking Portal should include the docket number (PTO-T-2012-0031). The comments will be available for public inspection on the USPTO's Web site at http://www.uspto.gov, and will also be available at the Office of the Commissioner for Trademarks, Madison East, Tenth Floor, 600 Dulany Street, Alexandria, Virginia. Because comments will be made available for public inspection, information that is not desired to be made public, such as an address or phone number, should not be included.

FOR FURTHER INFORMATION CONTACT: Cynthia C. Lynch, Office of the Deputy Commissioner for Trademark Examination Policy, at (571) 272-8742.

SUPPLEMENTARY INFORMATION: On August 16, 2012, the USPTO published a request for comment to provide the public, including user groups, with an opportunity to comment on a potential legislative change to amend the first filing deadline for Affidavits or Declarations of Use or Excusable Nonuse under Sections 8 and 71 of the Trademark Act from between the fifth and sixth years after the registration date, or the six-month grace period that follows, to between the third and fourth years after the registration date, or the six-month grace period that follows (77 FR 49425 (August 16, 2012)).

The notice invited the public to submit written comments on the potential change on or before October 15, 2012. The USPTO is now extending the period for submission of public comments until November 5, 2012.

Dated: September 13, 2012.
David J. Kappos,
Under Secretary of Commerce for Intellectual Property and Director of the United States Patent and Trademark Office.

[FR Doc. 2012-23117 Filed 9-18-12; 8:45 am]

BILLING CODE 3510-16-P